DEPARTMENT OF HEALTH AND HUMAN SERVICES

National Institutes of Health

National Institute of Neurological Disorders and Stroke; Amended Notice of Meeting

Notice is hereby given of a change in the meeting of the National Institute of Neurological Disorders and Stroke Special Emphasis Panel, Clinical Trials and Comparative Effectiveness Research in Neurology, July 09, 2024, 09:00 a.m. to July 10, 2024, 02:00 p.m., National Institutes of Health, Neuroscience Center, 6001 Executive Boulevard, Rockville, MD 20852 which was published in the Federal Register on June 13, 2024, FR Doc. 2024-13021, 89 FR 50347.

This notice is being amended to change the dates of this two-day meeting from July 9, 2024, and July 10, 2024, to July 29, 2024, and July 30, 2024. The meeting time remains the same. The meeting is closed to the public.

Dated: July 5, 2024.
Lauren A. Fleck,
Program Analyst, Office of Federal Advisory Committee Policy.

[FR Doc. 2024-15187 Filed 7-10-24; 8:45 am]

BILLING CODE 4140-01-P